DEPARTMENT OF LABOR

Office of the Secretary

Department of Labor's Fleet Alternative Fuel Vehicle Acquisition

AGENCY: Office of the Secretary, Labor.

ACTION: Notice of availability of the Department of Labor's annual report on its alternative fuel vehicle acquisitions for fiscal year 2004. The web site also contains the Department's previous annual reports for fiscal years 1999-2003.

SUMMARY: In compliance with the Energy Policy Act of 1992 and Executive Order 13149, this notice announces the availability of the 2004 report which summarizes the U.S. Department of Labor's (DOL) compliance with the annual alternative fuel vehicle acquisition requirement for its fleet. The web site also contains the Department's previous annual reports for fiscal years 1999-2003. Additionally, the reports include data relative to the agency's effort in reducing petroleum consumption.

ADDRESSES: U.S. Department of Labor, Office of the Assistant Secretary for Administration and Management, Business Operations Center, Office of Administrative Services, 200 Constitution Avenue NW., Room S1524, Washington, DC 20210.

FOR FURTHER INFORMATION CONTACT: Al Stewart, Director of Business Operations Center at (202) 693-4021 or e-mail Stewart.Milton@dol.gov.

SUPPLEMENTARY INFORMATION: The Energy Policy Act of 1992 (42 U.S.C. 13211-13219) as amended by the Energy Conservation and Reauthorization Act of 1998 (Pub. L. 105-388, Section 310(b) (3) and Executive Order 13149 (April 2000) were intended to decrease the country's dependence on petroleum for transportation purposes. The Energy Policy Act of 1992 requires Federal fleets to acquire 75 percent of their new covered vehicle acquisitions as alternative fuel vehicles.

Pursuant to 42 U.S.C. 13218 of the Energy Policy Act, DOL and other covered agencies are required annually to submit to Congress reports on their Energy Policy Act's alternative fuel vehicle acquisition requirements. These reports must also be placed on an available Web site and their availability, including the Web site address, must be published in the Federal Register.

DOL reports for 1999, 2000, 2001, 2002, 2003, and 2004 may be accessed at the DOL Fleet Information and Regulations Web site at http://www.dol.gov/oasam/programs/boc/epact.htm.

Issued in Washington, DC, this 6th day of June 2005.
Patrick Pizzella,
Assistant Secretary for Administration and Management.

[FR Doc. 05-11511 Filed 6-9-05; 8:45 am]

BILLING CODE 4510-23-P